Title 3—

The President

Proclamation 7775 of April 23, 2004

Jewish Heritage Week, 2004

By the President of the United States of America

A Proclamation

Jewish Heritage Week commemorates the rich history of the Jewish people and the many contributions Jewish Americans have made to our Nation. This year marks the 350th anniversary of the first permanent Jewish settlement in North America, in what is known today as New York. We honor the courage and perseverance of these Jewish immigrants and their descendants, and we celebrate their steadfast dedication to the ideals that make America strong.

Through their stories of tragedy and survival, the Jewish people demonstrate their unyielding faith and share with us the important truth that even in the face of terrible tragedy, hope endures. Many Jews came to America in search of a land of freedom and opportunity, and we must work to preserve their stories for future generations. The lessons of these stories are timeless and help guide us through the challenges ahead.

Over the past three and a half centuries, Jewish Americans have helped shape the history and culture of our Nation. As scientists, physicians, social workers, educators, artists, businessmen, and in many other professions, Jewish citizens have contributed to the strength of our country. Their commitment to religious freedom, respect for diversity, and belief in democracy have enriched our society and helped make America a better place for all. During this historic time, we are particularly grateful for the many Jewish Americans who serve in our military. Their efforts help advance the cause of freedom and provide hope for people around the world.

As we observe Jewish Heritage Week, we remember the proud legacy and determination of the Jewish people and their strong dedication to faith, family, and service.

NOW, THEREFORE, I, GEORGE W. BUSH, President of the United States of America, by virtue of the authority vested in me by the Constitution and laws of the United States, do hereby proclaim April 25 through May 2, 2004, as Jewish Heritage Week. I call upon all Americans to observe this week with appropriate programs and activities that highlight and honor the contributions Jewish Americans have made to our Nation.

IN WITNESS WHEREOF, I have hereunto set my hand this twenty-third day of April, in the year of our Lord two thousand four, and of the Independence of the United States of America the two hundred and twenty-eighth.

B

[FR Doc. 04-9706

Filed 4-26-04; 11:27 am]

Billing code 3195-01-P